DEPARTMENT OF THE INTERIOR

Minerals Management Service

Outer Continental Shelf (OCS) Scientific Committee (SC); Announcement of Plenary Session

AGENCY: Minerals Management Service (MMS), Interior.

ACTION: Notice of meeting.

SUMMARY: The OCS Scientific Committee will meet at the Embassy Suites Dulles-North in Dulles (Sterling), Virginia.

DATES: Wednesday, April 27, 2005, from 8 a.m. to 5:30 p.m.; Thursday, April 28, 2005, from 8 a.m. to 5:30 p.m.; and Friday, April 29, 2005, 8:30 a.m. to 12:30 p.m.

ADDRESSES: Embassy Suites Dulles-North/Loudoun, 44610 Waxpool Road, Dulles, Virginia 20147, telephone (703) 723-5300.

FOR FURTHER INFORMATION CONTACT: A copy of the agenda may be requested from MMS by calling Ms. Carolyn Beamer at (703) 787-1211. Other inquiries concerning the OCS SC meeting should be addressed to Dr. James Kendall, Executive Secretary to the OCS SC, Minerals Management Service, 381 Elden Street, Mail Stop 4043, Herndon, Virginia 20170-4817 or by calling (703) 787-1656.

SUPPLEMENTARY INFORMATION: The OCS SC will provide advice on the feasibility, appropriateness, and scientific value of the OCS Environmental Studies Program to the Secretary of the Interior through the Director of the MMS. The SC will review the relevance of the research and data being produced to meet MMS scientific information needs for decision making and may recommend changes in scope, direction, and emphasis.

The Committee will meet in plenary session on Wednesday, April 27. Individual Committee members will report on the January meetings of the Gulf of Mexico OCS Region's Information Transfer Meeting and affiliated OCS SC's Deepwater Subcommittee, the January and March meetings of the OCS SC Arctic Subcommittee meeting, and the OCS SC's observations made at the MMS/Environmental Protection Agency Hypoxia meeting conducted this past summer. Also on April 27, presentations will be made to the OCS SC outlining how archeology studies are useful to MMS information needs and how other large environmental programs handle environmental data and what options are being used and/or considered for serving MMS's database needs. The MMS Director will also address the Committee.

On Thursday, April 28, the Committee will meet in discipline breakout sessions (i.e., biology/ecology, physical sciences, and social sciences) to review the specific research plans of the MMS regional offices for Fiscal Years 2006 and 2007.

On Friday, April 29, the Committee will meet in plenary session for reports of the individual discipline breakout sessions of the previous day and to continue with Committee business.

The meetings are open to the public. Approximately 30 visitors can be accommodated on a first-come-first-served basis at the plenary session.

Authority: Federal Advisory Committee Act, Public Law 92-463, 5 U.S.C., Appendix I, and the Office of Management and Budget's Circular A-63, Revised.

Dated: March 31, 2005.
Thomas A. Readinger,
Associate Director for Offshore Minerals Management.

[FR Doc. 05-6819 Filed 4-5-05; 8:45 am]

BILLING CODE 4310-MR-P